DEPARTMENT OF HEALTH AND HUMAN SERVICES

Administration for Community Living

Agency Information Collection Activities; Submission for OMB Review; Comment Request; State Program Report

AGENCY: Administration for Community Living, HHS.

ACTION: Notice.

SUMMARY: The Administration for Community Living (ACL) is announcing that the proposed collection of information listed below has been submitted to the Office of Management and Budget (OMB) for review and clearance under the Paperwork Reduction Act of 1995.

DATES: Submit written comments on the collection of information by June 7, 2013.

ADDRESSES: Submit written comments on the collection of information by fax 202.395.5806 or by email to OIRA_submission@omb.eop.gov, Attn: OMB Desk Officer for ACL.

FOR FURTHER INFORMATION CONTACT: Elena Fazio at 202-357-3583 or email: elena.fazio@acl.hhs.gov.

SUPPLEMENTARY INFORMATION: In compliance with 44 U.S.C. 3507, ACL has submitted the following proposed collection of information to OMB for review and clearance.

The Older Americans Act (OAA) requires annual program performance reports from States. In compliance with this OAA provision, ACL developed a State Program Report (SPR) in 1996 as part of its National Aging Program Information System (NAPIS).

The SPR collects information about how State Units on Aging expend their OAA funds as well as funding from other sources for OAA authorized supportive services. The SPR also collects information on the demographic and functional status of the recipients, and is a key source for AoA performance measurement. This collection includes minor revisions of the format from the 2010 approved version. The proposed revised version will be in effect for the FY 2014 reporting year and thereafter, while the current reporting, OMB Approval Number 0985-0008, will be extended to the end of the FY 2013 reporting cycle. The proposed FY 2014 version may be found on the ACL Web site link entitled Proposed SPR for Review available at http://www.aoa.gov/AoARoot/Program_Results/OAA_Performance.aspx#national ACL estimates the burden of this collection of information as follows: 2,600 hours.

Dated: May 3, 2013.
Kathy Greenlee,
Administrator and Assistant Secretary for Aging.

[FR Doc. 2013-10921 Filed 5-7-13; 8:45 am]

BILLING CODE 4154-01-P